NUCLEAR REGULATORY COMMISSION

[Docket Nos. 50-282, 50-306, 50-368, 50-334, 50-338, 50-339, 50-280, 50-445, 50-395, 50-348, 50-364, 50-498, 50-499, 50-327, 50-390, 50-336, 50-335; NRC-2017-0188]

Northern States Power Company—Minnesota; Entergy Operations, Inc.; FirstEnergy Nuclear Operating Company; Virginia Electric and Power Company; TEX Operations Company, LLC; South Carolina Electric & Gas Company, Inc.; STP Nuclear Operating Company; Tennessee Valley Authority

AGENCY: Nuclear Regulatory Commission.

ACTION: 10 CFR 2.206 request; receipt.

SUMMARY: The U.S. Nuclear Regulatory Commission (NRC) is giving notice that by petition dated January 24, 2017, Mr. Paul Gunter on behalf of Beyond Nuclear, and representing numerous public interest groups (collectively, Beyond Nuclear, et al., or petitioners), has requested that the NRC take action with regard to licensees of plants that currently rely on potentially defective safety-related components and potentially falsified quality assurance documentation supplied by AREVA-Le Creusot Forge and its subcontractor, Japan Casting and Forging Corporation. The petitioners' requests are included in the SUPPLEMENTARY INFORMATION section of this document.

ADDRESSES: Please refer to Docket ID NRC-2017-0188 when contacting the NRC about the availability of information regarding this document. You may obtain publicly-available information related to this document using any of the following methods:

• Federal Rulemaking Web site: Go to http://www.regulations.gov and search for Docket ID NRC-2017-0188. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Merrilee Banic, Office of Nuclear Reactor Regulation, U.S. Nuclear Regulatory Commission, Washington, DC 20555-0001; telephone: 301-415-2771; email: Merrilee.Banic@nrc.gov.

SUPPLEMENTARY INFORMATION: On January 24, 2017, (ADAMS Accession No. ML17025A180) the petitioners requested that the NRC take action with regard to licensees of plants that currently rely on potentially defective safety-related components and potentially falsified quality assurance documentation supplied by AREVA-Le Creusot Forge and its subcontractor, Japan Casting and Forging Corporation.

As a basis for this request, the petitioners provided the expert review of John Large & Associates identifying significant “irregularities” and “anomalies” in both the manufacturing process and quality assurance documentation of large reactor components manufactured by the AREVA-Le Creusot Forge for French reactors and reactors in other countries.

The request is being treated pursuant to section 2.206 of title 10 of the Code of Federal Regulations (10 CFR) of the Commission's regulations. The request has been referred to the Director of the Office of Nuclear Reactor Regulation. The petitioners supplemented the petition on February 16, March 6, June 16, June 22, June 27, June 30, and July 5, 2017 (ADAMS Accession Nos. ML17052A032, ML17068A061, ML17067A562, ML17174A087, ML17174A788, ML17179A288, ML17184A058, and ML17187A026, respectively). The supplements are being considered in evaluating the petitioners' request for enforcement action.

The petitioners addressed the Petition Review Board in a public meeting on March 8, 2017; the transcript of that meeting (ADAMS Accession No. ML17081A418) is an additional supplement to the petition. The results of that meeting were considered in the Board's determination regarding the petitioners' request for enforcement action. The Director determined that the petitioners' request for enforcement action concerning potentially defective safety-related components met the criteria for review under the 10 CFR 2.206 process, but that the request about potentially falsified quality assurance documentation would be referred to another NRC process for appropriate action. Because the allegation process provides an opportunity for the petitioners to address these concerns, the issue of potentially falsified quality assurance documentation will not be reviewed as part of this 2.206 petition. The NRC will take appropriate action on this petition within a reasonable time.

Dated at Rockville, Maryland, this 30th day of August 2017.
For the Nuclear Regulatory Commission.
Michele G. Evans,
Deputy Director, Office of Nuclear Reactor Regulation.

[FR Doc. 2017-19216 Filed 9-11-17; 8:45 am]

BILLING CODE 7590-01-P